DEPARTMENT OF HEALTH AND HUMAN SERVICES

National Institutes of Health

Center for Scientific Review; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Center for Scientific Review Special Emphasis Panel, RFA-OD-25-003: Short Courses on Innovative Methodologies and Approaches in the Behavioral and Social Sciences (R25).

Date: July 24, 2025.

Time: 10:00 a.m. to 2:00 p.m.

Agenda: To review and evaluate grant applications.

Address: National Institutes of Health, Rockledge II, 6701 Rockledge Drive, Bethesda, MD 20892.

Meeting Format: Virtual Meeting.

Contact Person: Anna Ghambaryan, Ph.D., MD, MA, Scientific Review Officer, Extramural Project Review Branch Office of Extramural Activities, National Institute on Alcohol Abuse and Alcoholism, 6700B Rockledge Drive, Room 2120, MSC 6902, Bethesda, MD 20892, (301) 443-4032, anna.ghambaryan@nih.gov.

Name of Committee: Center for Scientific Review Special Emphasis Panel; Member Conflict: Integrative Vascular Biology and Hematology.

Date: July 25, 2025.

Time: 8:00 a.m. to 6:00 p.m.

Agenda: To review and evaluate grant applications.

Address: National Institutes of Health, Rockledge II, 6701 Rockledge Drive, Bethesda, MD 20892.

Meeting Format: Virtual Meeting.

Contact Person: Dmitri V. Gnatenko, Ph.D., Scientific Review Officer, Center for Scientific Review, National Institutes of Health, 6701 Rockledge Drive, Bethesda, MD 20892, (301) 867-5309 gnatenkod2@nih.gov.

Name of Committee: Center for Scientific Review Special Emphasis Panel; Fellowships: Interdisciplinary Clinical Care.

Date: July 25, 2025.

Time: 9:00 a.m. to 5:30 p.m.

Agenda: To review and evaluate grant applications.

Address: National Institutes of Health, Rockledge II, 6701 Rockledge Drive, Bethesda, MD 20892.

Meeting Format: Virtual Meeting.

Contact Person: Sonia Elena Nanescu, Ph.D., Scientific Review Officer, Division of Extramural Activities, NIDCD, NIH, 6001 Executive Boulevard, Suite 8300, Bethesda, MD 20892, (301) 496-8693, sonia.nanescu@nih.gov.

Name of Committee: Center for Scientific Review Special Emphasis Panel; PAR Panel: Drug discovery and therapeutic approaches for nervous system disorders.

Date: July 25, 2025.

Time: 9:00 a.m. to 6:00 p.m.

Agenda: To review and evaluate grant applications.

Address: National Institutes of Health, Rockledge II, 6701 Rockledge Drive, Bethesda, MD 20892.

Meeting Format: Virtual Meeting.

Contact Person: Rebecca Steiner Garcia, Ph.D., Scientific Review Officer, Division of Extramural Activities, National Institute of Mental Health, NIH, Neuroscience Center, 6001 Executive Blvd., Room 6149, MSC 9606, Bethesda, MD 20892-9606, 301-443-4525, steinerr@mail.nih.gov

Name of Committee: Center for Scientific Review Special Emphasis Panel; Mental Health Services Research.

Date: July 25, 2025.

Time: 9:00 a.m. to 6:00 p.m.

Agenda: To review and evaluate grant applications.

Address: National Institutes of Health, Rockledge II, 6701 Rockledge Drive, Bethesda, MD 20892.

Meeting Format: Virtual Meeting.

Contact Person: Karin Eyrich Garg, Scientific Review Officer, Division of Extramural Activities, National Institute of Mental Health Neuroscience Center, 6001 Executive Boulevard, Rockville, MD 20892, (301) 594-2988, karin.garg@nih.gov.

Name of Committee: Center for Scientific Review Special Emphasis Panel, RM-24-013: Complement-ARIE New Approach Methodologies (NAMs) Data Hub and coordinating Center (U24).

Date: July 25, 2025.

Time: 9:00 a.m. to 5:30 p.m.

Agenda: To review and evaluate grant applications.

Address: National Institutes of Health, Rockledge II, 6701 Rockledge Drive, Bethesda, MD 20892.

Meeting Format: Virtual Meeting.

Contact Person: Raj K Krishnaraju, Ph.D., Scientific Review Officer, Center for Scientific Review, National Institutes of Health, 6701 Rockledge Drive, Room 6190, MSC 7804, Bethesda, MD 20892, (301) 435-1047, kkrishna@csr.nih.gov.

Name of Committee: Center for Scientific Review Special Emphasis Panel; Member Conflict: Biology and Development of the Eye.

Date: July 25, 2025.

Time: 1:00 p.m. to 4:00 p.m.

Agenda: To review and evaluate grant applications.

Address: National Institutes of Health, Rockledge II, 6701 Rockledge Drive, Bethesda, MD 20892.

Meeting Format: Virtual Meeting.

Contact Person: Jessica Smith, Ph.D., Scientific Review Officer, Center for Scientific Review, National Institutes of Health, 6701 Rockledge Drive, Bethesda, MD 20892, (301) 402-3717, jessica.smith6@nih.gov.

Name of Committee: Center for Scientific Review Special Emphasis Panel; PAR-24-306: Research Projects to Enhance Applicability of Mammalian Models for Translational Research.

Date: July 28, 2025.

Time: 9:00 a.m. to 6:00 p.m.

Agenda: To review and evaluate grant applications.

Address: National Institutes of Health, Rockledge II, 6701 Rockledge Drive, Bethesda, MD 20892.

Meeting Format: Virtual Meeting.

Contact Person: Lambratu Rahman Sesay, Ph.D., Scientific Review Officer, Center for Scientific Review, National Institutes of Health, 6701 Rockledge Drive, Room 6214, MSC 7804, Bethesda, MD 20892, 301-905-8294, rahman-sesay@csr.nih.gov.

Name of Committee: Center for Scientific Review Special Emphasis Panel, NIH Pathway to Independence Award (K99/R00).

Date: July 28-29, 2025.

Time: 10:00 a.m. to 6:00 p.m.

Agenda: To review and evaluate grant applications.

Address: National Institutes of Health, Rockledge II, 6701 Rockledge Drive, Bethesda, MD 20892.

Meeting Format: Virtual Meeting.

Contact Person: Konrad Jerzy Krzewski, Ph.D., Scientific Review Officer, Scientific Review Program, Division of Extramural Activities, National Institutes of Health/NIAID, 5601 Fishers Lane, Room 3G53, Rockville, MD 20852, (240) 747-7526, konrad.krzewski@nih.gov.

Name of Committee: Center for Scientific Review Special Emphasis Panel; NIH Pathway to Independence Award.

Date: July 28, 2025.

Time: 10:00 a.m. to 6:00 p.m.

Agenda: To review and evaluate grant applications.

Address: National Institutes of Health, Rockledge II, 6701 Rockledge Drive, Bethesda, MD 20892.

Meeting Format: Virtual Meeting.

Contact Person: Joshua Park, Ph.D., Scientific Review Officer, SRB Scientific Review Branch, NIA (National Institute on Aging), 5601 Fishers Lane, Suite 8B, Rockville, MD 20892, (301) 443-7613, joshua.park4@nih.gov.

(Catalogue of Federal Domestic Assistance Program Nos. 93.306, Comparative Medicine; 93.333, Clinical Research, 93.306, 93.333, 93.337, 93.393-93.396, 93.837-93.844, 93.846-93.878, 93.892, 93.893, National Institutes of Health, HHS)

Dated: June 24, 2025.
Sterlyn H Gibson,
Program Specialist, Office of Federal Advisory Committee Policy.

[FR Doc. 2025-11972 Filed 6-26-25; 8:45 am]

BILLING CODE 4140-01-P